DEPARTMENT OF TRANSPORTATION

Federal Railroad Administration

[Docket Number FRA-2024-0099]

Petition for Waiver of Compliance

Under part 211 of title 49 Code of Federal Regulations (CFR), this document provides the public notice that on September 5, 2024, Texas & Eastern Railroad (TESR) petitioned the Federal Railroad Administration (FRA) for a waiver of compliance from certain provisions of the Federal railroad safety regulations contained at 49 CFR part 230 (Steam Locomotive Inspection and Maintenance Standards). FRA assigned the petition Docket Number FRA-2024-0099.

Specifically, TESR requests relief from § 230.98(a)(6) and (7), Driving, trailing, and engine truck axles—condemning defects, for some driving journals on steam locomotive TSR 400. The regulations provide that a defect is considered condemning if “any axle [is] worn ½ inch or more in diameter below the original/new journal diameter” except if “any driving axles other than main driving axles with an original or new diameter greater than 6 inches . . . are worn ¾ inch or more in diameter below the original/new diameter.” In its petition, TESR stated that “some driving journals have been turned under the original diameter and are at or under the minimum diameters” given in part 230. TESR added that the journals were last turned prior to TSR 400 being removed from service in the early 2000s, and that the journals “exhibit no indications of appreciable wear since they were last turned.”

TESR requests relief until TSR 400's 1,472 service day inspection in early 2029, when all wheels will be removed for inspection and possible axle renewal. The locomotive “has experienced no issues regarding hot journals or scouring,” and it is inspected over an inspection pit twice daily during operations, with “all journals, cellars, and pads . . . inspected closely for position, oil, and wear.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at www.regulations.gov. Follow the online instructions for submitting comments.

Communications received by December 23, 2024 will be considered by FRA before final action is taken. Comments received after that date will be considered if practicable. Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2024-24456 Filed 10-21-24; 8:45 am]

BILLING CODE 4910-06-P